DEPARTMENT OF AGRICULTURE

Grain Inspection, Packers and Stockyards Administration

[06-TX-A]

Opportunity for Designation to Provide Official Services in Texas

AGENCY: Grain Inspection, Packers and Stockyards Administration, USDA.

ACTION: Notice.

SUMMARY: The Grain Inspection, Packers and Stockyards Administration (GIPSA) has identified a need for domestic official inspection service in Clay, Montague, Cooke, Grayson, Fannin, Lamar, Red River, Young, Stephen, and Eastland Counties. GIPSA is asking persons interested in providing official services in these unassigned counties in Texas to submit an application for designation.

DATES: Applications must be received on or before April 12, 2006.

ADDRESSES: We invite you to submit applications and comments on this notice. You may submit applications and comments by any of the following methods:

• Hand Delivery or Courier: Deliver to Janet M. Hart, Deputy Director, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Deputy Director, Compliance Division, GIPSA, USDA, STOP 3604, 1400 Independence Avenue, SW., Washington, DC 20250-3604.

Read Applications and Comments: All applications and comments will be available for public inspection at the office above during regular business hours (7 CFR 1.27(b)).

FOR FURTHER INFORMATION CONTACT: Janet M. Hart, at 202-720-8262, e-mail Janet.M.Hart@usda.gov.

SUPPLEMENTARY INFORMATION: This action has been reviewed and determined not to be a rule or regulation as defined in Executive Order 12866 and Departmental Regulation 1512-1; therefore, the Executive Order and Departmental Regulation do not apply to this action.

GIPSA has determined that there is a need for domestic official inspection service in Clay, Montague, Cooke, Grayson, Fannin, Lamar, Red River, Young, Stephen, and Eastland counties. These counties are open for designation.

Section 7(f)(1) of the United States Grain Standards Act, as amended (USGSA), authorizes GIPSA's Administrator, after determining that there is sufficient need for official services, to designate a qualified applicant to provide official services in a specified area after determining that the applicant is qualified and is better able than any other applicant to provide such official services. GIPSA is asking persons interested in providing official services in Texas to submit an application for designation. The applicant selected for designation in Texas will be assigned by GIPSA's Administrator according to Section 7(f)(1) of the Act.

Interested persons are hereby given an opportunity to apply for designation to provide official services in the Texas area under the provisions of Section 7(f) of the Act and section 800.196(d) of the regulations issued thereunder. Applications and other available information will be considered in determining which applicant will be designated.

Designation in the Texas area will be for a period not to exceed 3 years as prescribed in section 7(g)(1) of the Act. Persons wishing to apply for designation should contact the Compliance Division at the address listed above for forms and information.

Authority: Pub. L. 94-582, 90 Stat. 2867, as amended (7 U.S.C. 71 et seq.).

James E. Link,
Administrator, Grain Inspection, Packers and Stockyards Administration.

[FR Doc. E6-3501 Filed 3-10-06; 8:45 am]

BILLING CODE 3410-EN-P